DEPARTMENT OF AGRICULTURE

Forest Service

Notice of Environmental Impact Statement; Withdrawal

AGENCY: Forest Service, USDA.

ACTION: Notice of withdrawal of intent to prepare an environmental impact statement.

SUMMARY: The United States Department of Agriculture, Forest Service, Prescott National Forest, is withdrawing the March 2, 2010, Federal Register notice (75 FR 9388) which announced their intent to prepare an Environmental Impact Statement in accordance with the National Environmental Policy Act, 42 U.S.C. 4321 (NEPA), to analyze the environmental impacts of vegetation management treatments in the Prescott Basin area. The original proposal included vegetation treatments to reduce fuels exceeding 9″ in diameter in Mexican Spotted Owl (MSO) Protected Activity Centers. This proposal would have been in conflict with the MSO recovery guidelines that had been incorporated into the Prescott National Forest's Land and Resource Management Plan. Subsequently the Forest Service entered into a new consultation with the United States Fish and Wildlife Service regarding the MSO and other threatened or endangered species. During this period of re-consultation, the responsible official on Prescott National Forest has determined that it would be unwise to pursue such vegetation treatments that could result in a negative impact to the MSO. Without these treatments in MSO protected activity centers, it was recognized that significant impacts to the environment would be highly unlikely, and therefore an Environmental Impact Statement would probably not be required and an Environmental Assessment would be prepared.

DATES: This withdrawal of the Notice of Intent is effective on the date of this publication in the Federal Register.

ADDRESSES: USDA Forest Service, Prescott National Forest, 344 S Cortez St., Prescott, AZ 86303.

FOR FURTHER INFORMATION CONTACT: Jodi Wetzstein, Prescott National Forest Silviculturalist; 928-443-8041.

Dated: December 20, 2010.
Thomas Klabunde,
Acting Forest Supervisor.

[FR Doc. 2010-33130 Filed 12-30-10; 8:45 am]

BILLING CODE 3410-11-P